DEPARTMENT OF COMMERCE

Foreign-Trade Zones Board

[Order No. 1413]

Expansion of Foreign-Trade Zone 207, Richmond, Virginia

Pursuant to its authority under the Foreign-Trade Zones Act of June 18, 1934, as amended (19 U.S.C. 81a-81u), the Foreign-Trade Zones Board (the Board) adopts the following Order:

Whereas, the Capital Region Airport Commission, grantee of Foreign-Trade Zone 207, submitted an application to the Board for authority to expand FTZ 207 to include a site (Site 2 - 221 acres) within the 345-acre SouthPoint Business Park in Prince George (Prince George County), Virginia, within the Richmond Customs port of entry (FTZ Docket 14-2005; filed 3/14/05);

Whereas, notice inviting public comment was given in the Federal Register (70 FR 13451, 3/21/05) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 207 is approved, subject to the Act and the Board's regulations, including Section 400.28, and subject to the Board's standard 2,000-acre activation limit for the overall zone project.

Signed at Washington, DC, this 9th day of September 2005.

Joseph A. Spetrini,
Acting Assistant Secretary of Commerce for Import Administration, Alternate Chairman, Foreign-Trade Zones Board.
Attest:
Dennis Puccinelli,
Executive Secretary.

[FR Doc. 05-18719 Filed 9-19-05; 8:45 am]

BILLING CODE 3510-DS-S